FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 22, 2013.

A. Federal Reserve Bank of Atlanta (Chapelle Davis, Assistant Vice President) 1000 Peachtree Street NE., Atlanta, Georgia 30309:

1. Phillip Bruce Culpepper, Tallahassee, Florida; Richard Rene Dostie, Charles Eldridge Hughes, Jr., and Jan Malcolm Jones, Jr., all of Jacksonville, Florida; James Thomas Katsur, Longwood, Florida; William Andrew Krusen, Jr., and Allan Scott Martin, both of Tampa, Florida; Linda Claire McGurn, Micanopy, Florida; and Manuel Gonzalo Sanchez, Gainesville, Florida; to collectively acquire voting shares of Florida Capital Group, Inc., and thereby indirectly acquire voting shares of Florida Capital Bank, both of Jacksonville, Florida.

B. Federal Reserve Bank of Minneapolis (Jacqueline G. King, Community Affairs Officer) 90 Hennepin Avenue, Minneapolis, Minnesota 55480-0291:

1. William P. Von Holtum, Edina, Minnesota, individually and as trustee of the voting trust of the John E. Von Holtum Estate; Megan E. Von Holtum and Christopher J. Von Holtum, all of Edina, Minnesota, as members of the Von Holtum Family Group; to retain voting shares of Central Trust Company, Edina, Minnesota, and thereby indirectly retain voting shares of Central Bank and Trust, Lander, Wyoming; CenBank, Buffalo Lake, Minnesota; and VH Bancorporation, Inc., Edina, Minnesota, and its subsidiary Grand Marais State Bank, Grand Marais, Minnesota.

2. Tina Pogatchnik Rabe, Hinckley, Minnesota; as a member of the Pogatchnik family group, and individually and as trustee of the D.A. Pogatchnik Family Trust, and the Bruce Pogatchnik Family Trust, both in Hinckley, Minnesota, and Bruce A. Pogatchnik, as trustee of the Dean L. Pogatchnik Grandchildren's Trust, Finlayson, Minnesota, and for all to join the Pogatchnik family group; to retain voting shares of Finlayson Bancshares, Inc., Finlayson, Minnesota, and thereby indirectly retain voting shares of Northview Bank, Sandstone, Minnesota, and First Independent Bank, Russell, Minnesota.

Board of Governors of the Federal Reserve System, April 2, 2013.
Margaret McCloskey Shanks,
Deputy Secretary of the Board.

[FR Doc. 2013-07952 Filed 4-4-13; 8:45 am]

BILLING CODE 6210-01-P